JUDICIAL CONFERENCE OF THE UNITED STATES

Meeting of the Judicial Conference Committee on Rules of Practice and Procedure

AGENCY: Judicial Conference of the United States, Advisory Committee on Rules of Evidence

ACTION: Notice of Open Meeting.

SUMMARY: The Advisory Committee on Rules of Evidence will hold a one-day meeting. The meeting will be open to public observation but not participation.

DATES: April 17, 2015.

Time: 8:30 a.m. to 5:00 p.m.

ADDRESSES: Fordham University, School of Law, 150 West 62nd Street, New York, New York 10023.

FOR FURTHER INFORMATION CONTACT: Jonathan C. Rose, Rules Committee Secretary, Rules Committee Support Office, Administrative Office of the United States Courts, Washington, DC 20544, telephone (202) 502-1820.

Dated: January 23, 2015.
Jonathan C. Rose,
Rules Committee Secretary.

[FR Doc. 2015-01565 Filed 1-27-15; 8:45 am]

BILLING CODE 2210-55-P